Title 3—

The President

Proclamation 9316 of September 4, 2015

Labor Day, 2015

By the President of the United States of America

A Proclamation

Every year, our Nation sets aside Labor Day to celebrate the working men and women of America, whose grit and resilience have built our country and made our economic progress possible. Our economy has now added 8 million jobs over the past 3 years, a pace that has not been exceeded since 2000, and our businesses have created 13.1 million jobs over 66 straight months—extending the longest streak on record. By almost every measure, the American economy and our workers are better off than when I took office; but this has not come easy, and our work is not yet done.

These gains are part of our Nation's long legacy of fighting for middle-class economics—policies that ensure opportunity is open to everyone who is willing to work hard and play by the rules—and they have made America stronger and more prosperous. As a Nation, we can build on these advances and accelerate our progress. History shows that working families can get a fair shot in this country, but only if we are willing to organize and fight for it. Together, we can ensure our growing economy benefits everyone and fuels rising incomes and a thriving middle class.

At the beginning of the last century, Americans came together to fight for dignity and justice in the workplace. With courage and determination, women and men stood up, marched, and raised their voices for a 40-hour workweek, weekends, and workplace safety laws. It is because of workers who agitated—and the unions who had their backs—that we enjoy many of the protections we often take for granted today, including overtime pay, a minimum wage, and the right to organize for better pay and benefits. These hard-won victories are the foundation of our robust middle class, which has led to the largest, most prosperous economy in the world, and they are central to the belief that our economy does not grow from the top down—it grows from the middle out.

As President, I am committed to defending these pillars of opportunity and bolstering our Nation's pathways into the middle class. That is why I have been fighting since day one to secure a better bargain for all Americans—one where an honest day's work is rewarded with an honest day's pay, where our workplaces are safer, and where it is easier, not harder, to join a union. Policies like paid sick days, paid family and medical leave, workplace flexibility, the right to organize, and equal pay for equal work are national economic priorities that are essential to building an economy that benefits from the contributions of all our people. And because everyone has the right to a fair living wage, I signed an Executive Order to raise the minimum wage for workers on new Federal contracts, and I have called on the Congress to raise the national minimum wage. Additionally, my Administration has proposed extending overtime pay to nearly 5 million workers, which would give more Americans the chance to be paid for their extra hours of work or have more time at home with their families.

Since I took office, Governors, mayors, and local leaders have joined me in expanding these policies by enacting paid sick days and paid family leave and raising the minimum wage in States, cities, and counties across our Nation. Still, more work remains because in America, no one who is working full-time should have to raise their family in poverty. A secure future should be possible for everyone who clocks in each morning, every parent who works the graveyard shift to provide for their family, and every young person who dreams of going to college and knows that with hard work they can get there. That is the future we are fighting for, and I will keep pushing until the American dream is within the reach of all people who are willing to work for it. This Labor Day, let us remember the struggles and the progress that have defined America, and let us resolve to continue building a Nation where everyone is treated fairly, where hard work pays off, and where all things are possible for all people.

NOW, THEREFORE, I, BARACK OBAMA, President of the United States of America, by virtue of the authority vested in me by the Constitution and the laws of the United States, do hereby proclaim September 7, 2015, as Labor Day. I call upon all public officials and people of the United States to observe this day with appropriate programs, ceremonies, and activities that honor the contributions and resilience of working Americans.

IN WITNESS WHEREOF, I have hereunto set my hand this fourth day of September, in the year of our Lord two thousand fifteen, and of the Independence of the United States of America the two hundred and fortieth.

[FR Doc. 2015-22997

Filed 9-9-15; 11:15 am]

Billing code 3295-F5